DEPARTMENT OF TRANSPORTATION

Federal Highway Administration

Environmental Impact Statement: St. Louis County and the City of St. Louis, MO

AGENCY: Federal Highway Administration (FHWA), DOT.

ACTION: Notice of intent.

SUMMARY: The FHWA is issuing this notice to advise the public that an environmental impact statement (EIS) will be prepared for proposed improvements to I-64 in St. Louis County and the City of St. Louis, Missouri.

FOR FURTHER INFORMATION CONTACT: Ms. Peggy Casey, Environmental Projects Engineer, FHWA Division Office, 209 Adams Street, Jefferson City, MO 65101, Telephone: (573) 638-2620 or Mr. Dave Nichols, Director of Project Development, Missouri Department of Transportation, P.O. Box 270, Jefferson City, MO 65102, Telephone: (573) 751-4586.

SUPPLEMENTARY INFORMATION: The FHWA, in cooperation with the Missouri Department of Transportation (MoDOT), will prepare an EIS for a proposal to reconstruct the existing I-64 (U.S. Route 40) facility with new interchange configurations and appurtenant roadways/structures in St. Louis County and the City of St. Louis, Missouri. It is intended that the reconstructed facility will meet current standards. A location study will run concurrently with the preparation of the EIS and will provide definitive reasonable alternatives for evaluation in the EIS. The proposed action will accomplish several goals: (1) Replace the deteriorating facility and substandard interchanges, (2) improve safety (and capacity between Spoede Road and I-170), (3) improve operation and decrease congestion, and (4) promote community redevelopment.

The proposed project which includes work on I-170 from south of Brentwood Boulevard to I-64, begins west of Spoede Road in St. Louis County and continues easterly to west of Sarah Street in the City of St. Louis. The project is approximately 12 miles in length. Known potential impacts include residential and/or commercial relocations, acquisition of National Register of Historic Places-eligible properties, access changes, and likely impacts to parkland at the City of St. Louis' Forest Park and Richmond Heights' A.B. Green Athletic Field Complex, both eligible for protection under Section 4(f) of the Department of Transportation Act of 1966. A Department of the Army Section 404 permit and a floodplain development permit from the State Emergency Management Agency may be required.

Alternatives under consideration include (1) no build, (2) build alternatives, and (3) transportation system management options.

To date, substantial preliminary coordination has occurred with local officials and other interested parties. As part of the scoping process, an interagency coordination meeting will be held with all appropriate federal, state, and local agencies. In addition, public information meetings and further meetings with community officials will be held to solicit public and agency input on the reasonable range of alternatives. A location public hearing will be held to present the findings of the Draft EIS. Public notice will be given announcing the time and place of all public meetings and the public hearing. The Draft EIS will be available for public and agency review and comment prior to the public hearing.

To ensure that the full range of issues related to this proposed action are addressed and all significant issues are identified, comments and suggestions are invited from all interested parties. Comments or questions concerning this proposed action and the EIS should be directed to the FHWA or MoDOT at the addresses provided above.

(Catalog of Federal Domestic Assistance Program Number 20.205, Highway Planning and Construction. The regulations implementing Executive Order 12372 regarding intergovernmental consultation on Federal programs and activities apply to this program.)
Issued on: October 15, 2001.
Peggy J. Casey,
Environmental Projects Engineer, Jefferson City.

[FR Doc. 01-26722 Filed 10-23-01; 8:45 am]

BILLING CODE 4910-22-M